DEPARTMENT OF HEALTH AND HUMAN SERVICES

National Biodefense Science Board Public Teleconference

AGENCY: Office of the Assistant Secretary for Preparedness and Response (ASPR), Department of Health and Human Services (HHS).

ACTION: Notice.

SUMMARY: As stipulated by the Federal Advisory Committee Act, the Department of Health and Human Services is hereby giving notice that the National Biodefense Science Board (NBSB) will hold a public teleconference on December 13, 2018.

DATES: The NBSB Public Teleconference is December 13, 2018, from 2:00 p.m. to 4:00 p.m. Eastern Standard Time (EST).

ADDRESSES: We encourage members of the public to attend the public meetings. To register, send an email to nbsb@hhs.gov with “NBSB Registration” in the subject line. Submit your comments to nbsb@hhs.gov, the NBSB Contact Form located at https://www.phe.gov/Preparedness/legal/boards/nbsb/Pages/RFNBSBComments.aspx. For additional information, visit the NBSB website located at https://www.phe.gov/nbsb.

SUPPLEMENTARY INFORMATION: The NBSB is authorized under Section 319M of the Public PHS Act (42 U.S.C. 247d-7f), as added by Section 402 of the Pandemic and All-Hazards Preparedness Act of 2006 and amended by Section 404 of the Pandemic and All-Hazards Preparedness Reauthorization Act. The Board is governed by the Federal Advisory Committee Act (5 U.S.C. App.), which sets forth standards for the formation and use of advisory committees. The NBSB provides expert advice and guidance on scientific, technical, and other matters of special interest to the Department regarding current and future chemical, biological, nuclear, and radiological agents, whether naturally occurring, accidental, or deliberate.

Background: The December 13, 2018, NBSB public teleconference is dedicated to the discussion of recommendations on two topics: (1) Strategic improvements to the National Disaster Medical System (NDMS) and (2) implementation of the National Biodefense Strategy. We will post modifications to the agenda on the NBSB meeting website, which is located at https://www.phe.gov/nbsb.

Availability of Materials: We will post all teleconference materials prior to the teleconference on December 13, 2018, at the website located at https://www.phe.gov/nbsb.

Procedures for Providing Public Input: Members of the public may attend the public teleconference via a toll-free call-in phone number, which is available on the NBSB website at https://www.phe.gov/nbsb.

We encourage members of the public to provide written comments that are relevant to the NBSB public teleconference prior to December 13, 2018. Send written comments by email to nbsb@hhs.gov with “NBSB Public Comment” in the subject line. The NBSB Chair will respond to comments received by December 12, 2018, during the public teleconference.

Dated: November 8, 2018.
Robert P. Kadlec,
Assistant Secretary for Preparedness and Response.

[FR Doc. 2018-25131 Filed 11-16-18; 8:45 am]

BILLING CODE 4150-28-P